DEPARTMENT OF TRANSPORTATION

Federal Aviation Administration

Seventeenth Meeting: RTCA Special Committee (227) Standards of Navigation Performance

AGENCY: Federal Aviation Administration (FAA), U.S. Department of Transportation (DOT).

ACTION: Notice of Seventeenth RTCA Special Committee 227 Meeting.

SUMMARY: The FAA is issuing this notice to advise the public of the Seventeenth RTCA Special Committee 227 meeting.

DATES: The meeting will be held March 15-17, 2016 from 9:00 a.m.-4:30 p.m.

ADDRESSES: The meeting will be held at RTCA Inc. Conference Room, 1150 18th, NW., Suite 910, Washington, DC, Tel: (202) 330-0680.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 227. The agenda will include the following:

Tuesday, March 15, 2016

1. Plenary (9:00 a.m.-10:00 a.m.)

a. Welcome and Administrative Remarks

b. Introduction

c. Review of Minutes from Meeting 16

d. Agenda Overview

i. Schedule

ii. New Business

e. Adjourn Plenary

2. Working Group 3 Work Session, (10:15 a.m.-4:30 p.m.)

a. New Issues and/or proposed MOPS changes

b. Review and discussion of MOPS issues and change proposals

Wednesday-Thursday, March 16-17, 2016

1. Working Group 3 Work Session (Wednesday, 9:00 a.m.-Thursday, 10:30 a.m.)

2. Closing Plenary (Thursday, 10:45 a.m.-12:00 p.m.)

a. Working Group 2 Progress Report/Summary

b. Other Business

c. Date of Next Meeting

d. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 23, 2016.
Latasha Robinson,
Management & Program Analyst, NextGen, Enterprise Support Services Division, Federal Aviation Administration.

[FR Doc. 2016-04209 Filed 2-25-16; 8:45 am]

BILLING CODE 4910-13-P